GENERAL SERVICES ADMINISTRATION

[Notice-GTAC-2012-01; Docket No. 2012-0002; Sequence 28]

Government-wide Travel Advisory Committee (GTAC)

AGENCY: Office of the Administrator, General Services Administration (GSA).

ACTION: Notice, Establishment of a Federal Advisory Committee and Solicitation of Nominations for Membership.

SUMMARY: The Administrator of U.S. General Services Administration has determined that the establishment of the Government-wide Travel Advisory Committee (GTAC) is necessary and in the public's interest. A charter for the GTAC has been prepared and will be filed no earlier than 15 days following the date of publication of this notice. In addition, this notice establishes criteria and procedures for the selection of members.

DATES: Effective date: This notice is effective December 24, 2012.

FOR FURTHER INFORMATION CONTACT: Ms. Marcerto Barr, 1275 First Street NE., One Constitution Square, 6th Floor, Washington, DC 20417, (202) 208-7654 or by email to: gtac@gsa.gov.

Background and Authority: The GSA Office of Asset and Transportation Management, Travel and Relocation Division establishes policy that governs travel by Federal civilian employees and others authorized to travel at Government expense on temporary duty travel through the Federal Travel Regulation (FTR).

SUPPLEMENTARY INFORMATION: This notice is published in accordance with the provisions of the Federal Advisory Committee Act (Pub. L. 92-463), and advises of the establishment of the GTAC.

The purpose of GTAC will be to review existing travel policies, processes, and procedures, that are accountable and transparent, beginning with the per diem methodology to aid in meeting agency missions in an effective and efficient manner at the lowest logical travel cost. Through the review process, the GTAC will address current industry and Federal travel trends and provide advice and make recommendations for improvements to increase travel efficiency and effectiveness, reduce costs, promote sustainability, and incorporate industry best practices. The Committee provides an opportunity for travel industry leaders, and other qualified individuals to offer their expert advice and recommendations to GSA, which among other things, is responsible for the development and implementation of the FTR which prescribes the policies for travel by Federal civilian employees and others authorized to travel at Government expense. These views will be offered to the Administrator of General Services on a regular basis. There exists no other source within the Federal government that could serve this function. The GTAC shall be a continuing advisory committee with an initial two-year term and will automatically expire two years from the date of the charter filing, unless renewed prior to expiration. The GTAC will be comprised of no more than 15 members, including the Chair, with extensive knowledge and expertise in travel management. The Chair will be selected from among the membership by GSA. Members may include Federal agency travel managers, hoteliers, rental car companies, airline companies, travel and lodging associations, convention and visitor bureaus, state and local government representatives, as well as corporations. GTAC members will serve a two-year term with the possibility of a one-year extension. Membership in the GTAC is limited to the individuals appointed and is non-transferrable. No person who is a Federally-registered lobbyist may serve on the GTAC. GTAC members will not receive compensation or travel reimbursements from the Government. The meetings are open to public observers, unless prior notice has been provided for a closed meeting.

Nomination for Advisory Committee Appointment: There is no prescribed format for the nomination. Individuals may nominate themselves or other individuals. A nomination package should include the following information for each nominee: (1) A letter of nomination stating the name, affiliation, and contact information for the nominee, membership capacity he/she will serve, nominee's field(s) of expertise, description of their interest, and qualifications (2) a complete professional biography or resume of the nominee; and (3) the name, return address, email address, and daytime telephone number at which the nominator can be contacted. GSA will consider nominations of all qualified individuals to ensure that the GTAC includes the areas of travel subject matter expertise needed. Potential candidates may be asked to provide detailed information concerning financial interests that might be affected by recommendations of the GTAC to permit evaluation of possible sources of conflicts of interest. The nomination period for interested candidates will close 30 days after publication of this notice. All nominations should be submitted in sufficient time to be received by 5 p.m. Eastern Standard Time on the closing date and be addressed to email address mailto:gtac@gsa.gov or by mail to: General Services Administration, Office of Government-wide Policy, 1275 First Street NE., One Constitution.

Dated: December 17, 2012.
Chris Scott,
Director, Travel and Relocation Policy, Office of Asset and Transportation Management, Office of Government Policy.

[FR Doc. 2012-30928 Filed 12-21-12; 8:45 am]

BILLING CODE 6820-14-P